DEPARTMENT OF AGRICULTURE

Forest Service

Deschutes Provincial Advisory Committee (DPAC); Meeting

AGENCY: Forest Service, USDA.

ACTION: Notice of Meeting.

SUMMARY: The Deschutes Provincial Advisory Committee will meet on September 27th, 2007, starting at 8 a.m. at the Sisters Ranger District, Pine Street and Highway 20, Sisters, Oregon. It will be a 2-hour business meeting and then a joint field trip with Central Oregon Partnership for Wildfire Risk Reduction (COPWRR) to monitor the Green Thin Project. The trip is scheduled to end at 4:30 p.m. in Sisters. All Deschutes Province Advisory Committee Meetings are open to the public and an open public forum is scheduled from 4 to 4:30 p.m.

FOR FURTHER INFORMATION CONTACT: Chris Mickle, Province Liaison, Crescent Ranger District, Highway 97, Crescent, Oregon, 97733, Phone (541) 433-3216.

John Allen,
Deschutes National Forest Supervisor.

[FR Doc. 07-4299 Filed 8-31-07; 8:45 am]

BILLING CODE 3410-11-M